DEPARTMENT OF LABOR

Office of the Secretary

Submission for OMB Review: Comment Request

October 30, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained from RegInfo.gov at http://www.reginfo.gov/public/do/PRAMain or by contacting Darrin King on 202-693-4129 (this is not a toll-free number) / e-mail: king.darrin@dol.gov.

Comments should be sent to Office of Information and Regulatory Affairs, Attn: OMB Desk Officer for the Occupational Safety and Health Administration (OSHA), Office of Management and Budget, Room 10235, Washington, DC 20503, Telephone: 202-395-7316 / Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of currently approved collection.

Title: Personal Protective Equipment (PPE) for General Industry (29 CFR part 1910, subpart I).

OMB Number: 1218-0205.

Type of Response: Recordkeeping and Third party disclosure.

Affected Public: Business or other for-profits.

Number of Respondents: 3,400,000.

Number of Annual Responses: 49,748,648.

Estimated Time per Response: Varies by task.

Total Burden Hours: 3,953,759.

Total Annualized capital/startup costs: $0.

Total Annual Costs (operating/maintaining systems or purchasing services): $0.

Description: The main objective of the Occupational Safety and Health Act of 1970 (OSH Act) is to “assure so far as possible every working man and woman in the Nation safe and healthful working conditions and to preserve our human resources” (29 U.S.C. 651). To achieve this objective, the OSH Act authorizes “the development and promulgation of occupational safety and health standards” (29 U.S.C. 651).

With regard to recordkeeping, the OSH Act specifies that “[e]ach employer shall make, keep and preserve, and make available to the Secretary * * * such records * * * as the Secretary * * * may prescribe by regulation as necessary appropriate for enforcement of this Act * * *” (29 U.S.C. 657). The OSH Act states further that “[t]he Secretary * * * shall prescribe such rules and regulations as [he/she] may deem necessary to carry out [his/her] responsibilities under this Act, including rules and regulations dealing with inspection of an employer's establishment” (29 U.S.C. 657).

Under the authority granted by the OSH Act, the Occupational Safety and Health Administration (OSHA) issued personal protective equipment (PPE) standards for general industry at 29 CFR part 1910, subpart I (subpart I). Section 1910.132(a) requires that PPE, including equipment for eyes, face, head, and extremities, protective clothing, respiratory devices, and protective shields and barriers, be provided, used, and maintained in a sanitary and reliable condition wherever it is necessary by reason of hazards of processes or environment, chemical hazards, radiological hazards, or mechanical irritants encountered in a manner capable of causing injury or impairment in the function of any part of the body through absorption, inhalation or physical contact. Subpart I specifies several paperwork requirements. The following describes the information collection requirements in subpart I and addresses who will use the information.

Hazard Assessment and Verification (§ 1910.132(d))

Paragraph (d)(1) requires employers to perform a hazard assessment of the workplace to determine if hazards are present, or likely to be present, that make the use of PPE necessary. Where such hazards are present, employers must communicate PPE selection decisions to each affected employee (paragraph (d)(1)(ii)). Paragraph (d)(2) requires employers to certify in writing that they have performed the hazard assessment. The certification must include the date and the person certifying that the hazard assessment was conducted, and the identification of the workplace evaluated (area or location).

The hazard assessment assures that potential workplace hazards necessitating PPE use have been identified and the PPE selected is appropriate for those hazards and the affected employees. The required certification of the hazard assessment verifies that the required hazard assessment was conducted.

Training and Verification (§ 1910.132(f))

Section 1910.132(f) requires that employers provide training for each employee who is required to wear PPE. Paragraph (f)(3) requires that employers also provide retraining when there is reason to believe that any previously trained employee does not have the understanding and skill to use PPE properly. Circumstances where such retraining is required include changes in the workplace that render prior training obsolete, changes in the types of PPE used, and inadequacies in the employee's knowledge or use of PPE that indicate the employee had not retained the requisite understanding and skill.

Paragraph (f)(4) requires that employers certify that employees have received and understood the PPE training required in § 1910.132(f). The training certification must include the name of the employee(s) trained, the date(s) of training, and the subject of the certification (i.e., a statement identifying the document as a certification of training in the use of PPE).

The training certification verifies that employees have received the necessary training and know how to properly use PPE. OSHA compliance officers may require employers to disclose the certification records during an Agency inspection.

The standards on PPE protection for the eyes and face (29 CFR 1910.133), head (29 CFR 1910.135, feet (29 CFR 1910.136)), and hands (29 CFR 1910.138) do not contain any separate information collection requirements.

Darrin A. King,
Acting Departmental Clearance Officer.

[FR Doc. E6-18530 Filed 11-2-06; 8:45 am]

BILLING CODE 4510-26-P